DEPARTMENT OF ENERGY

Federal Energy Regulatory Commission

Combined Notice of Filings #2

Take notice that the Commission received the following electric rate filings:

Docket Numbers: ER10-1823-001; ER10-1917-001; ER10-1483-002; ER10-1462-001; ER10-1853-001; ER10-1904-001; ER10-1996-001; ER10-2309-001; ER10-2386-001; ER10-2413-001; ER10-2458-001; ER10-2468-001; ER10-1410-001.

Applicants: Dominion Energy Marketing, Inc.

Description: Notice of Change in Status of Dominion Resources Services, Inc. on behalf of Dominion Energy Marketing, Inc. et al.

Filed Date: 8/6/12.

Accession Number: 20120806-5168.

Comments Due: 5 p.m. ET 8/27/12.

Docket Numbers: ER11-2932-001.

Applicants: NorthWestern Corporation.

Description: Attachment K Compliance Filing—SD OATT to be effective 8/2/2012.

Filed Date: 8/7/12.

Accession Number: 20120807-5044.

Comments Due: 5 p.m. ET 8/28/12.

Docket Numbers: ER12-1761-001.

Applicants: PJM Interconnection, L.L.C.

Description: Compliance Filing per 7/9/2012 Order in ER12-1761 to be effective 4/5/2012.

Filed Date: 8/7/12.

Accession Number: 20120807-5110.

Comments Due: 5 p.m. ET 8/28/12.

Docket Numbers: ER12-2414-001.

Applicants: New York Independent System Operator, Inc.

Description: NYISO Compliance Filing to replace tariff section filed 8/6/12 re: BSM rules to be effective 6/22/2012.

Filed Date: 8/7/12.

Accession Number: 20120807-5100.

Comments Due: 5 p.m. ET 8/28/12.

Docket Numbers: ER12-2415-000.

Applicants: Simpson Tacoma Kraft Company, LLC.

Description: Baseline Refile to be effective 12/29/2008.

Filed Date: 8/7/12.

Accession Number: 20120807-5001.

Comments Due: 5 p.m. ET 8/28/12.

Docket Numbers: ER12-2416-000.

Applicants: PJM Interconnection, L.L.C.

Description: Original Service Agreement No. 3377; Queue No. W4-042 to be effective 7/31/2012.

Filed Date: 8/6/12.

Accession Number: 20120806-5167.

Comments Due: 5 p.m. ET 8/27/12.

Docket Numbers: ER12-2417-000.

Applicants: PJM Interconnection, L.L.C.

Description: Queue Position W1-072A_AT5; Original Service Agreement No. 3380 to be effective 7/13/2012.

Filed Date: 8/7/12.

Accession Number: 20120807-5081.

Comments Due: 5 p.m. ET 8/28/12.

Docket Numbers: ER12-2418-000.

Applicants: PJM Interconnection, L.L.C.

Description: Queue Position Y1-012; Original Service Agreement No. 3379 to be effective 7/10/2012.

Filed Date: 8/7/12.

Accession Number: 20120807-5095.

Comments Due: 5 p.m. ET 8/28/12.

Docket Numbers: ER12-2419-000.

Applicants: San Diego Gas & Electric Company.

Description: SDGE Certificate of Concurrence to CAISO Amended and Restated TCA to be effective 7/3/2012.

Filed Date: 8/7/12.

Accession Number: 20120807-5104.

Comments Due: 5 p.m. ET 8/28/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 07, 2012.
Nathaniel J. Davis, Sr.,
Deputy Secretary.

[FR Doc. 2012-19857 Filed 8-13-12; 8:45 am]

BILLING CODE 6717-01-P